NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 15, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Erin Pettit, Dept. of Geology and Geophysics, University of Alaska Fairbanks, Fairbanks, AK. Permit Application: 2014-015.

Activity for Which Permit is Requested: ASPA Entry; The applicant proposes to access the Blood Falls ASPA by foot to install instrumentation to assess the physical aspects of the Blood Falls system using non-destructive and non-invasive techniques. All instrumentation will be removed before this permit expires. Instruments to be deployed would include: ground penetrating radar (GPR), thermal imaging camera, embedded thermal sensors, stakes to measure ablation and GPS units to monitor the motion of the glacier. The GPR system will be moved carefully using a system of ice anchors, ice screws, and ropes that will be removed from the site when no longer in use. All embedded sensor strings will be removed before the permit expires. The applicants would wear clean footwear to enter to the ASPA to reduce the risk of non-native species invasions. The applicant would camp outside of the boundary of the area.

Location: ASPA 172 Lower Taylor Glacier and Blood Falls, McMurdo Dry Valleys.

Dates: November 1, 2013 to February 15, 2015 .

Nadene G. Kennedy,
Polar Coordination Specialist, Division of Polar Programs.

[FR Doc. 2013-22233 Filed 9-12-13; 8:45 am]

BILLING CODE 7555-01-P